DEPARTMENT OF COMMERCE

International Trade Administration

Antidumping or Countervailing Duty Order, Finding, or Suspended Investigation; Opportunity To Request Administrative Review

AGENCY: Import Administration, International Trade Administration, Department of Commerce.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

Background

Each year during the anniversary month of the publication of an antidumping or countervailing duty order, finding, or suspension of investigation, an interested party, as defined in section 771(9) of the Tariff Act of 1930, as amended (“the Act”), may request, in accordance with 19 CFR 351.213, that the Department of Commerce (“the Department”) conduct an administrative review of that antidumping or countervailing duty order, finding, or suspended investigation.

All deadlines for the submission of comments or actions by the Department discussed below refer to the number of calendar days from the applicable starting date.

Respondent Selection

In the event the Department limits the number of respondents for individual examination for administrative reviews initiated pursuant to requests made for the orders identified below, except for the review of the antidumping duty order on Wooden Bedroom Furniture from the People's Republic of China (“PRC”) (A-570-890), the Department intends to select respondents based on U.S. Customs and Border Protection (“CBP”) data for U.S. imports during the period of review (“POR”). We intend to release the CBP data under Administrative Protective Order (“APO”) to all parties having an APO within seven days of publication of the initiation notice and to make our decision regarding respondent selection within 21 days of publication of the initiation Federal Register notice. Therefore, we encourage all parties interested in commenting on respondent selection to submit their APO applications on the date of publication of the initiation notice, or as soon thereafter as possible. The Department invites comments regarding the CBP data and respondent selection within five days of placement of the CBP data on the record of the review.

If the Department limits the number of respondents selected for individual examination in the administrative review of the antidumping duty order on wooden bedroom furniture from the PRC, it intends to select respondents based on volume data contained in responses to quantity and value questionnaires. Further, the Department intends to limit the number of quantity and value questionnaires issued in the wooden bedroom furniture from the PRC review based on CBP data for U.S. imports classified under the Harmonized Tariff Schedule of the United States (“HTSUS”) headings identified in the scope of the order. Since the units used to measure import quantities are not consistent for the HTSUS headings identified in the scope of the order on wooden bedroom furniture from the PRC, the Department will limit the number of quantity and value questionnaires issued based on the import values in CBP data as a proxy for import quantities. Parties subject to the review to which the Department does not send a quantity and value questionnaire may file a response to the quantity and value questionnaire by the applicable deadline if they desire to be included in the pool of companies from which the Department will select mandatory respondents. Additionally, exporters subject to the review to which the Department does not send a quantity and value questionnaire may file a separate rate application or separate rate certification, as appropriate, by the applicable deadline without filing a response to the quantity and value questionnaire.

Opportunity to Request A Review: Not later than the last day of January 2011,¹ interested parties may request administrative review of the following orders, findings, or suspended investigations, with anniversary dates in January for the following periods:

¹ Or the next business day, if the deadline falls on a weekend, Federal holiday or any other day when the Department is closed.

|  | Period to be reviewed
Antidumping Duty Proceedings
Brazil: Prestressed Concrete Steel Wire Strand | A-351-837 | 1/1/10—12/31/10
India: Prestressed Concrete Steel Wire Strand | A-533-828 | 1/1/10—12/31/10
Mexico: Prestressed Concrete Steel Wire Strand | A-201-831 | 1/1/10—12/31/10
South Africa: Ferrovanadium | A-791-815 | 1/1/10—12/31/10
South Korea:
Prestressed Concrete Steel Wire Strand | A-580-852 | 1/1/10—12/31/10
Top-of-the Stove Stainless Steel Cooking Ware² | A-580-601 | 1/1/10—11/16/10
Thailand: Prestressed Concrete Steel Wire Strand | A-549-820 | 1/1/10—12/31/10
The People's Republic of China:
Crepe Paper Products | A-570-895 | 1/1/10—12/31/10
Ferrovanadium | A-570-873 | 1/1/10—12/31/10
Folding Gift Boxes | A-570-866 | 1/1/10—12/31/10
Potassium Permanganate | A-570-001 | 1/1/10—12/31/10
Wooden Bedroom Furniture | A-570-890 | 1/1/10—12/31/10
Countervailing Duty Proceedings
South Korea: Top-of-the-Stove Stainless Steel Cooking Ware ³ | C-580-602 | 1/1/10—11/21/10
The People's Republic of China: Certain Oil Country Tubular Goods | C-570-944 | 1/20/10—12/31/10
Circular Welded Carbon Quality Steel Line Pipe | C-570-936 | 1/1/10—12/31/10
Suspension Agreements
Mexico: Fresh Tomatoes | A-201-820 | 1/1/10—12/31/10
Russia: Certain Cut-to-Length Carbon Steel Plate | A-821-808 | 1/1/10—12/31/10
² The antidumping duty order on Top-of-the Stove Stainless Steel Cooking Ware was revoked due to sunset review effective November 17, 2010.
³ The countervailing duty order on Top-of-the Stove Stainless Steel Cooking Ware was revoked due to sunset review effective November 22, 2010.

In accordance with 19 CFR 351.213(b), an interested party as defined by section 771(9) of the Act may request in writing that the Secretary conduct an administrative review. For both antidumping and countervailing duty reviews, the interested party must specify the individual producers or exporters covered by an antidumping finding or an antidumping or countervailing duty order or suspension agreement for which it is requesting a review. In addition, a domestic interested party or an interested party described in section 771(9)(B) of the Act must state why it desires the Secretary to review those particular producers or exporters.⁴ If the interested party intends for the Secretary to review sales of merchandise by an exporter (or a producer if that producer also exports merchandise from other suppliers) which were produced in more than one country of origin and each country of origin is subject to a separate order, then the interested party must state specifically, on an order-by-order basis, which exporter(s) the request is intended to cover.

⁴ If the review request involves a non-market economy and the parties subject to the review request do not qualify for separate rates, all other exporters of subject merchandise from the non-market economy country who do not have a separate rate will be covered by the review as part of the single entity of which the named firms are a part.

Please note that, for any party the Department was unable to locate in prior segments, the Department will not accept a request for an administrative review of that party absent new information as to the party's location. Moreover, if the interested party who files a request for review is unable to locate the producer or exporter for which it requested the review, the interested party must provide an explanation of the attempts it made to locate the producer or exporter at the same time it files its request for review, in order for the Secretary to determine if the interested party's attempts were reasonable, pursuant to 19 CFR 351.303(f)(3)(ii).

As explained in Antidumping and Countervailing Duty Proceedings: Assessment of Antidumping Duties, 68 FR 23954 (May 6, 2003), the Department has clarified its practice with respect to the collection of final antidumping duties on imports of merchandise where intermediate firms are involved. The public should be aware of this clarification in determining whether to request an administrative review of merchandise subject to antidumping findings and orders. See also the Import Administration Web site at http://ia.ita.doc.gov.

Six copies of the request should be submitted to the Assistant Secretary for Import Administration, International Trade Administration, Room 1870, U.S. Department of Commerce, 14th Street and Constitution Avenue, NW., Washington, DC 20230. The Department also asks parties to serve a copy of their requests to the Office of Antidumping/Countervailing Operations, Attention: Sheila Forbes, in room 3508 of the main Commerce Building. Further, in accordance with 19 CFR 351.303(f)(3)(ii), a copy of each request must be served on the petitioner and each exporter or producer specified in the request.

The Department will publish in the Federal Register a notice of “Initiation of Administrative Review of Antidumping or Countervailing Duty Order, Finding, or Suspended Investigation” for requests received by the last day of January 2011. If the Department does not receive, by the last day of January 2011, a request for review of entries covered by an order, finding, or suspended investigation listed in this notice and for the period identified above, the Department will instruct the CBP to assess antidumping or countervailing duties on those entries at a rate equal to the cash deposit of (or bond for) estimated antidumping or countervailing duties required on those entries at the time of entry, or withdrawal from warehouse, for consumption and to continue to collect the cash deposit previously ordered.

For the first administrative review of any order, there will be no assessment of antidumping or countervailing duties on entries of subject merchandise entered, or withdrawn from warehouse, for consumption during the relevant provisional-measures “gap” period, of the order, if such a gap period is applicable to the POR.

This notice is not required by statute but is published as a service to the international trading community.

Dated: December 20, 2010.
Christian Marsh,
Deputy Assistant Secretary for Antidumping and Countervailing Duty Operations.

[FR Doc. 2010-33123 Filed 12-30-10; 8:45 am]

BILLING CODE 3510-DS-P